DEPARTMENT OF ENERGY

Federal Energy Regulatory Commission

Combined Notice of Filings #1

Take notice that the Commission received the following exempt wholesale generator filings:

Docket Numbers: EG25-171-000.

Applicants: Cottonwood Bayou Storage, LLC.

Description: Cottonwood Bayou Storage, LLC submits Notice of Self-Certification of Exempt Wholesale Generator Status.

Filed Date: 2/27/25.

Accession Number: 20250227-5112.

Comment Date: 5 p.m. ET 3/20/25.

Docket Numbers: EG25-172-000.

Applicants: Knox County Wind Farm LLC.

Description: Knox County Wind Farm LLC submits Notice of Self-Certification of Exempt Wholesale Generator Status.

Filed Date: 2/27/25.

Accession Number: 20250227-5153.

Comment Date: 5 p.m. ET 3/20/25.

Docket Numbers: EG25-173-000.

Applicants: Carousel Wind, LLC.

Description: Carousel Wind, LLC submits Notice of Self-Certification of Exempt Wholesale Generator Status.

Filed Date: 2/27/25.

Accession Number: 20250227-5226.

Comment Date: 5 p.m. ET 3/20/25.

Take notice that the Commission received the following electric rate filings:

Docket Numbers: ER25-1149-002.

Applicants: PJM Interconnection, L.L.C.

Description: Tariff Amendment: Amendment of GIA, SA No. 7505; AF2-031 in Docket No. er25-1149 to be effective 1/3/2025.

Filed Date: 2/26/25.

Accession Number: 20250226-5219.

Comment Date: 5 p.m. ET 3/19/25.

Docket Numbers: ER25-1422-000.

Applicants: Aron Energy Prepay 57 LLC.

Description: Initial Rate Filing: Baseline new to be effective 4/28/2025.

Filed Date: 2/26/25.

Accession Number: 20250226-5222.

Comment Date: 5 p.m. ET 3/19/25.

Docket Numbers: ER25-1425-000.

Applicants: PJM Interconnection, L.L.C.

Description: 205(d) Rate Filing: Amendment to ISA, SA No. 6955; Queue No. AF1-136 (amend) to be effective 4/29/2025.

Filed Date: 2/27/25.

Accession Number: 20250227-5040.

Comment Date: 5 p.m. ET 3/20/25.

Docket Numbers: ER25-1426-000.

Applicants: AEP Texas Inc.

Description: 205(d) Rate Filing: AEPTX-Honeycomb Interconnection 1st Amended Generation Interconnection Agreement to be effective 2/14/2025.

Filed Date: 2/27/25.

Accession Number: 20250227-5110.

Comment Date: 5 p.m. ET 3/20/25.

Docket Numbers: ER25-1427-000.

Applicants: AEP Texas Inc.

Description: 205(d) Rate Filing: AEPTX-Coleman County EC-Golden Spread EC 3rd Amended Interconnection Agreement to be effective 2/8/2025.

Filed Date: 2/27/25.

Accession Number: 20250227-5114.

Comment Date: 5 p.m. ET 3/20/25.

Docket Numbers: ER25-1428-000.

Applicants: Appalachian Power Company.

Description: 205(d) Rate Filing: OATT—Revise Attachment K, AEP Texas Inc. Rate Update to be effective 12/31/9998.

Filed Date: 2/27/25.

Accession Number: 20250227-5118.

Comment Date: 5 p.m. ET 3/20/25.

Docket Numbers: ER25-1430-000.

Applicants: Tri-State Generation and Transmission Association, Inc.

Description: Tariff Amendment: Notice of Cancellation of Unexecuted Facilities Use Agreement, United Power to be effective 4/29/2025.

Filed Date: 2/27/25.

Accession Number: 20250227-5124.

Comment Date: 5 p.m. ET 3/20/25.

Docket Numbers: ER25-1431-000.

Applicants: PJM Interconnection, L.L.C.

Description: 205(d) Rate Filing: Notice of Cancellation of ISA, SA No. 6819; Queue No. AC1-188 to be effective 1/21/2025.

Filed Date: 2/27/25.

Accession Number: 20250227-5127.

Comment Date: 5 p.m. ET 3/20/25.

Docket Numbers: ER25-1432-000.

Applicants: Tri-State Generation and Transmission Association, Inc.

Description: Tariff Amendment: Notice of Cancellation of Facilities Use Agreement, Mountain Parks to be effective 4/29/2025.

Filed Date: 2/27/25.

Accession Number: 20250227-5144.

Comment Date: 5 p.m. ET 3/20/25.

Docket Numbers: ER25-1433-000.

Applicants: Desert View Power LLC.

Description: Tariff Amendment: Notice of Cancellation of Market-Based Rate Tariff and Request for Waiver to be effective 2/28/2025.

Filed Date: 2/27/25.

Accession Number: 20250227-5193.

Comment Date: 5 p.m. ET 3/20/25.

Docket Numbers: ER25-1434-000.

Applicants: Desert View Power LLC.

Description: Tariff Amendment: Notice of Cancellation of Power Purchase Agreement Rate Schedule to be effective 2/28/2025.

Filed Date: 2/27/25.

Accession Number: 20250227-5196.

Comment Date: 5 p.m. ET 3/20/25.

Docket Numbers: ER25-1436-000.

Applicants: Tri-State Generation and Transmission Association, Inc.

Description: 205(d) Rate Filing: Amendment to Rate Schedule FERC No. 137 to be effective 2/1/2025.

Filed Date: 2/27/25.

Accession Number: 20250227-5245.

Comment Date: 5 p.m. ET 3/20/25.

Docket Numbers: ER25-1437-000.

Applicants: Bronson Solar, LLC.

Description: 205(d) Rate Filing: Application for Market-Based Rate Authorization—Bronson Solar, LLC to be effective 4/29/2025.

Filed Date: 2/27/25.

Accession Number: 20250227-5247.

Comment Date: 5 p.m. ET 3/20/25.

Docket Numbers: ER25-1438-000.

Applicants: Dominguez Grid, LLC.

Description: 205(d) Rate Filing: Application for Market-Based Rate Authorization—Dominguez Grid, LLC to be effective 4/29/2025.

Filed Date: 2/27/25.

Accession Number: 20250227-5252.

Comment Date: 5 p.m. ET 3/20/25.

Docket Numbers: ER25-1439-000.

Applicants: Tri-State Generation and Transmission Association, Inc.

Description: 205(d) Rate Filing: Amendment to Service Agreement No. 876 to be effective 2/1/2025.

Filed Date: 2/27/25.

Accession Number: 20250227-5253.

Comment Date: 5 p.m. ET 3/20/25.

Docket Numbers: ER25-1440-000.

Applicants: Skeleton Creek Energy Center, LLC.

Description: 205(d) Rate Filing: Application for Market-Based Rate Authorization—Skeleton Creek Energy Ctr, LLC to be effective 4/29/2025.

Filed Date: 2/27/25.

Accession Number: 20250227-5254.

Comment Date: 5 p.m. ET 3/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: February 27, 2025.
Carlos D. Clay,
Deputy Secretary.

[FR Doc. 2025-03537 Filed 3-4-25; 8:45 am]

BILLING CODE 6717-01-P